DEPARTMENT OF TRANSPORTATION

Federal Railroad Administration

[Docket Number FRA-2019-0089]

Petition for Waiver of Compliance

Under part 211 of title 49 Code of Federal Regulations (CFR), this document provides the public notice that on October 28, 2019, Norfolk Southern Corporation (NS), petitioned the Federal Railroad Administration (FRA) for a waiver of compliance from certain provisions of the Federal railroad safety regulations contained at 49 CFR part 231, Railroad Safety Appliance Standards. Specifically, NS seeks relief from § 231.6(a)(3)(i) for a designated series of NS maintenance-of-way (MW) flat cars (NS 980011, NS 986906, CR 62753, CR 58574, CR 58568, CR 58535, CR 58515, CR 58563, and CR 58708). FRA assigned the petition Docket Number FRA-2019-0089.

In line with the requirements of § 231.6(a)(3)(i), on June 15, 1998, FRA issued Technical Bulletin MP&E 98-69, Safety Appliance Arrangements on Flat Cars, recommending an additional handhold for any flat car with a low-mounted side hand brake to allow for the safe operation of the hand brake while the car is in motion. NS seeks relief to permit these MW cars to remain in service with their current hand brake arrangement and without the additional handhold outlined in MP&E 98-69.

NS indicates it will not operate the hand brake on these MW cars while the cars are in motion. NS states that these cars have had a long-standing service life with no detriment to the hand brake operation. NS contends that the supplemental handholds, as outlined in MP&E 98-69, could obstruct the loading or unloading of track equipment. NS posits that this could result in damage to the additional handholds any time the car is loaded or unloaded.

NS explains that the subject cars are currently stenciled “MW” as per 49 CFR 215.305, and they will remain in that dedicated service. NS states it will add additional stenciling with the words “DO NOT OPERATE HANDBRAKE WHILE CAR IS IN MOTION” in the area of the hand brake. NS states it will add a handling message on the NS Internal Alert System notifying persons that the hand brakes on these cars cannot be operated while the cars are in motion.

A copy of the petition, as well as any written communications concerning the petition, is available for review online at www.regulations.gov and in person at the U.S. Department of Transportation's (DOT) Docket Operations Facility, 1200 New Jersey Ave. SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Ave. SE, W12-140, Washington, DC 20590.

• Hand Delivery: 1200 New Jersey Ave. SE, Room W12-140, Washington, DC 20590, between 9 a.m. and 5 p.m., Monday through Friday, except Federal Holidays.

Communications received by January 9, 2020 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
John Karl Alexy,
Associate Administrator for Railroad Safety, Chief Safety Officer.

[FR Doc. 2019-25422 Filed 11-22-19; 8:45 am]

BILLING CODE 4910-06-P